ENVIRONMENTAL PROTECTION AGENCY

40 CFR Part 52

[IL189-1b; FRL-7213-1]

Approval and Promulgation of Implementation Plans; Illinois

AGENCY: Environmental Protection Agency (EPA).

ACTION: Proposed rule.

SUMMARY: EPA proposes to approve revisions to particulate matter control requirements for rural grain elevators in Illinois. On April 8, 1999, the Illinois Environmental Protection Agency submitted section 9 of the Illinois Environmental Protection Act (as revised by Public Act 89-491) as a requested revision to the Illinois State Implementation Plan (SIP). The requested SIP revision exempts rural grain elevators from certain particulate matter control requirements. An air quality modeling analysis was conducted to show that this rule change would not cause or contribute to violation of the National Ambient Air Quality Standards (NAAQS) for particulate matter with an aerodynamic diameter less than or equal to a nominal 10 micrometers (PM10).

DATES: EPA must receive written comments on this proposed rule by June 28, 2002.

ADDRESSES: You should mail written comments to: Patricia Morris, Acting Chief, Regulation Development Section, Air Programs Branch (AR-18J), U.S. Environmental Protection Agency, Region 5, 77 West Jackson Boulevard, Chicago, Illinois 60604.

You may inspect copies of the State submittal and EPA's analysis of it at:

Regulation Development Section, Air Programs Branch (AR-18J), U.S. Environmental Protection Agency, Region 5, 77 West Jackson Boulevard, Chicago, Illinois 60604.

FOR FURTHER INFORMATION CONTACT: David Pohlman, Environmental Scientist, Regulation Development Section, Air Programs Branch (AR-18J), U.S. Environmental Protection Agency, Region 5, 77 West Jackson Boulevard, Chicago, Illinois 60604, (312) 886-6524.

SUPPLEMENTARY INFORMATION: Throughout this document wherever “we,” “us,” or “our” are used we mean EPA.

Table of Contents

I. What action is EPA taking today?

II. Where can I find more information about this proposal and the corresponding direct final rule?

I. What Action is EPA Taking Today?

We are proposing to approve section 9 of the Illinois Environmental Protection Act (as revised by Public Act 89-491) as a revision to the Illinois SIP. The revised Illinois Environmental Protection Act exempts rural grain elevators from particulate matter control requirements contained in Section 212.462 of Title 35 of the Illinois Administrative Code (35 IAC 212.462). An air quality modeling analysis showed that the requested SIP revision would not cause or contribute to violations of PM10 NAAQS.

II. Where Can I Find More Information About This Proposal and the Corresponding Direct Final Rule?

For additional information see the direct final rule published in the rules section of this Federal Register.
Dated: May 7, 2002.
David A. Ullrich,
Acting Regional Administrator, Region 5.

[FR Doc. 02-13247 Filed 5-28-02; 8:45 am]

BILLING CODE 6560-50-P